DEPARTMENT OF ENERGY

Federal Energy Regulatory Commission

Combined Notice of Filings #1

Take notice that the Commission received the following electric corporate filings:

Docket Numbers: EC23-124-000.

Applicants: Hoosier Wind Project, LLC, Indianapolis Power & Light Company.

Description: Supplement to August 23, 2023, Joint Application for Authorization Under Section 203 of the Federal Power Act of Hoosier Wind Project, LLC, et al.

Filed Date: 10/20/23.

Accession Number: 20231020-5163.

Comment Date: 5 p.m. ET 10/30/23.

Docket Numbers: EC24-9-000.

Applicants: SunE Beacon Site 2 LLC, SunE Beacon Site 5 LLC.

Description: Joint Application for Authorization Under Section 203 of the Federal Power Act of SunE Beacon Site 2 LLC, et al.

Filed Date: 10/17/23.

Accession Number: 20231017-5178.

Comment Date: 5 p.m. ET 11/7/23.

Docket Numbers: EC24-10-000.

Applicants: Energy Center Carnegie LLC, Peoples Natural Gas Company LLC, LDC Funding LLC, Three Rivers District Energy, LLC.

Description: Joint Application for Authorization Under Section 203 of the Federal Power Act of Energy Center Carnegie LLC, et al.

Filed Date: 10/17/23.

Accession Number: 20231017-5180.

Comment Date: 5 p.m. ET 11/7/23.

Docket Numbers: EC24-11-000.

Applicants: Skysol, LLC.

Description: Application for Authorization Under Section 203 of the Federal Power Act of Skysol, LLC.

Filed Date: 10/23/23.

Accession Number: 20231023-5104.

Comment Date: 5 p.m. ET 11/13/23.

Take notice that the Commission received the following exempt wholesale generator filings:

Docket Numbers: EG24-17-000.

Applicants: Beaumont ESS, LLC.

Description: Beaumont ESS, LLC submits Notice of Self-Certification of Exempt Wholesale Generator Status.

Filed Date: 10/23/23.

Accession Number: 20231023-5137.

Comment Date: 5 p.m. ET 11/13/23.

Take notice that the Commission received the following electric rate filings:

Docket Numbers: ER20-2452-006; ER20-2453-007; ER20-844-004.

Applicants: Hamilton Projects Acquiror, LLC, Hamilton Patriot LLC, Hamilton Liberty LLC.

Description: Notice of Non-Material Change in Hamilton Liberty LLC.

Filed Date: 10/23/23.

Accession Number: 20231023-5114.

Comment Date: 5 p.m. ET 11/13/23.

Docket Numbers: ER21-2460-006.

Applicants: New York Independent System Operator, Inc.

Description: First informational report of the New York Independent System Operator, Inc. in compliance with the April 20, 2023 Order.

Filed Date: 10/20/23.

Accession Number: 20231020-5186.

Comment Date: 5 p.m. ET 11/13/23.

Docket Numbers: ER22-1549-005.

Applicants: Sun Streams PVS, LLC.

Description: Notice of Non-Material Change in Status of Sun Streams PVS, LLC.

Filed Date: 10/18/23.

Accession Number: 20231018-5178.

Comment Date: 5 p.m. ET 11/8/23.

Docket Numbers: ER23-1000-003.

Applicants: ISO New England Inc., The Narragansett Electric Company.

Description: Tariff Amendment: ISO New England Inc. submits tariff filing per 35.17(b): The Narragansett Electric Company ; TSA-NECO-83, Docket No. ER23-1000 to be effective 1/1/2023.

Filed Date: 10/23/23.

Accession Number: 20231023-5118.

Comment Date: 5 p.m. ET 11/13/23.

Docket Numbers: ER23-1003-003.

Applicants: ISO New England Inc., The Narragansett Electric Company.

Description: Compliance filing: ISO New England Inc. submits tariff filing per 35: The Narragansett Electric Company; TSA-NECO-86, Docket No. ER23-1003 to be effective 1/1/2023.

Filed Date: 10/23/23.

Accession Number: 20231023-5124.

Comment Date: 5 p.m. ET 11/13/23.

Docket Numbers: ER23-2507-001.

Applicants: Central Hudson Gas & Electric Corporation, New York Independent System Operator, Inc.

Description: Tariff Amendment: Central Hudson Gas & Electric Corporation submits tariff filing per 35.17(b): Central Hudson Deficiency Response re: Rate Schedule 19 Formula Rate Filing to be effective 9/27/2023.

Filed Date: 10/23/23.

Accession Number: 20231023-5050.

Comment Date: 5 p.m. ET 11/13/23.

Docket Numbers: ER24-173-000.

Applicants: PJM Interconnection, L.L.C.

Description: Tariff Amendment: Notice of Cancellation of WMPA, SA No. 6733; Queue No. AF1-286 to be effective 11/25/2023.

Filed Date: 10/20/23.

Accession Number: 20231020-5156.

Comment Date: 5 p.m. ET 11/13/23.

Docket Numbers: ER24-174-000.

Applicants: NorthWestern Corporation, Portland General Electric Company.

Description: § 205(d) Rate Filing: NorthWestern Corporation submits tariff filing per 35.13(a)(2)(iii: PGE-NWMT Pseudo-Tie Agreement for Clearwater to be effective 10/31/2023.

Filed Date: 10/23/23.

Accession Number: 20231023-5000.

Comment Date: 5 p.m. ET 11/13/23.

Docket Numbers: ER24-175-000.

Applicants: San Diego Gas & Electric Company.

Description: Informational Filing of 2024 Formula Rate Annual Update under Appendix XII of San Diego Gas & Electric Company.

Filed Date: 10/20/23.

Accession Number: 20231020-5175.

Comment Date: 5 p.m. ET 11/13/23.

Docket Numbers: ER24-176-000.

Applicants: San Diego Gas & Electric Company.

Description: Informational Filing of 2024 Formula Rate Annual Update under Appendix X of San Diego Gas & Electric Company.

Filed Date: 10/20/23.

Accession Number: 20231020-5176.

Comment Date: 5 p.m. ET 11/13/23.

Docket Numbers: ER24-177-000.

Applicants: PacifiCorp.

Description: Tariff Amendment: Termination of DG&T Const Agmt Bonanza Solar Resource Model (RS 773) to be effective 12/23/2023.

Filed Date: 10/23/23.

Accession Number: 20231023-5055.

Comment Date: 5 p.m. ET 11/13/23.

Docket Numbers: ER24-178-000.

Applicants: American Electric Power Service Corporation, PJM Interconnection, L.L.C.

Description: § 205(d) Rate Filing: American Electric Power Service Corporation submits tariff filing per 35.13(a)(2)(iii: AEP submits one Facilities Agreements re: ILDSA, SA No. 1336 to be effective 1/1/2024.

Filed Date: 10/23/23.

Accession Number: 20231023-5064.

Comment Date: 5 p.m. ET 11/13/23.

Docket Numbers: ER24-179-000.

Applicants: Prattsburgh Wind, LLC.

Description: Application of Prattsburgh Wind, LLC for Limited Waiver of NYISO OATT Sections 25.6.2.3.2 and 30.11.1.

Filed Date: 10/20/23.

Accession Number: 20231020-5187.

Comment Date: 5 p.m. ET 11/13/23.

Docket Numbers: ER24-180-000.

Applicants: New York State Electric & Gas Corporation.

Description: § 205(d) Rate Filing: NYSEG-DCEC Attachment C Annual Update to be effective 1/1/2024.

Filed Date: 10/23/23.

Accession Number: 20231023-5074.

Comment Date: 5 p.m. ET 11/13/23.

Docket Numbers: ER24-181-000.

Applicants: Frankland Road Solar, LLC.

Description: Baseline eTariff Filing: Application for Market Based Rate to be effective 12/22/2023.

Filed Date: 10/23/23.

Accession Number: 20231023-5076.

Comment Date: 5 p.m. ET 11/13/23.

Docket Numbers: ER24-182-000.

Applicants: Pennsylvania Electric Company, PJM Interconnection, L.L.C.

Description: § 205(d) Rate Filing: Pennsylvania Electric Company submits tariff filing per 35.13(a)(2)(iii: Penelec Amends 10 ECSAs (5428 5924 5926 6147 6340 6401 6404 6406 6419 6420) to be effective 12/31/9998.

Filed Date: 10/23/23.

Accession Number: 20231023-5106.

Comment Date: 5 p.m. ET 11/13/23.

Docket Numbers: ER24-183-000.

Applicants: PJM Interconnection, L.L.C.

Description: § 205(d) Rate Filing: Amendment to ISA, Service Agreement No. 6000; Queue No. AD2-116 to be effective 12/22/2023.

Filed Date: 10/23/23.

Accession Number: 20231023-5140.

Comment Date: 5 p.m. ET 11/13/23.

Take notice that the Commission received the following electric securities filings:

Docket Numbers: ES24-9-000.

Applicants: Keystone Appalachian Transmission Company.

Description: Application Under Section 204 of the Federal Power Act for Authorization to Issue Securities of Keystone Appalachian Transmission Company.

Filed Date: 10/19/23.

Accession Number: 20231019-5192.

Comment Date: 5 p.m. ET 11/9/23.

Take notice that the Commission received the following public utility holding company filings:

Docket Numbers: PH24-1-000.

Applicants: Lotus Infrastructure, LLC.

Description: Lotus Infrastructure, LLC submits FERC 65-B Notice of Change in Facts to Waiver Notification.

Filed Date: 10/18/23.

Accession Number: 20231018-5177.

Comment Date: 5 p.m. ET 11/8/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 23, 2023.
Debbie-Anne A. Reese,
Deputy Secretary.

[FR Doc. 2023-23769 Filed 10-26-23; 8:45 am]

BILLING CODE 6717-01-P